DEPARTMENT OF TRANSPORTATION

Federal Railroad Administration

Revised Notice of Intent To Prepare an Environmental Impact Statement for the California High-Speed Rail System, Los Angeles to Anaheim Project Section, CA

AGENCY: Federal Railroad Administration (FRA), Department of Transportation (DOT).

ACTION: Notice.

SUMMARY: The Federal Railroad Administration (FRA), on behalf of the California High-Speed Rail Authority (Authority) as the federal lead agency under the National Environmental Policy Act (NEPA) Assignment (July 2019), is issuing this notice to advise other federal, state, local, and tribal agencies and the public that the Authority intends to revise the scope of the analysis of the combined project-level Environmental Impact Report (EIR) and project-level Environmental Impact Statement (EIS) for the Los Angeles to Anaheim Project Section of the Authority's proposed California High-Speed Rail (HSR) System from the Los Angeles Union Station (LAUS) in the City of Los Angeles, California, to the Anaheim Regional Transportation Intermodal Center (ARTIC) in the City of Anaheim, California, in compliance with relevant state and federal laws, in particular the California Environmental Quality Act (CEQA) and NEPA. Since publication of the notice of intent (NOI), the Authority has identified the proposed BNSF Colton Intermodal Facility Component (Colton Component) and BNSF Lenwood Staging Track Component (Lenwood Component) as necessary components of the Los Angeles to Anaheim Project Section of the HSR system. This Revised NOI is being issued to solicit additional public and agency input into the development of the scope of the EIR/EIS for the Los Angeles to Anaheim Project Section with respect to the Colton and Lenwood Components. Public input received during outreach activities conducted by the Authority and its representatives will be considered in the preparation of the combined EIR/EIS.

DATES: Written comments on the scope of the Los Angeles to Anaheim Project Section EIR/EIS should be provided to the Authority starting on August 25, 2020 and must be received by the Authority on or before September 24, 2020, as noted below. Public scoping meetings are scheduled for the following dates and times.

The Authority expects these meetings to occur via webinar or other virtual-only mechanism (please consult www.hsr.ca.gov for up-to-date information). Scoping meetings are open to participants from any geographic area of the Los Angeles to Anaheim Project Section.

• Virtual Scoping Meeting #1: Thursday, September 10, 2020, 5:00 p.m.-7:30 p.m.

• Virtual Scoping Meeting #2: Saturday, September 12, 2020, 10:00 a.m.-12:30 p.m.

ADDRESSES: Written comments on the scope of the Los Angeles to Anaheim Project Section EIR/EIS in response to this Revised NOI should be sent to Mark A. McLoughlin, Director of Environmental Services, ATTN: Los Angeles—Anaheim, California High-Speed Rail Authority, 770 L Street, Suite 620, MS-2, Sacramento, CA 95814, or via email with the subject line “Los Angeles to Anaheim Project Section HSR” to: Los.Angeles_Anaheim@hsr.ca.gov. Comments may also be provided orally via the public scoping meetings described above.

FOR FURTHER INFORMATION CONTACT:

For the Authority: Mark A. McLoughlin, Director of Environmental Services, California High-Speed Rail Authority, (telephone: 916-403-6934; email: mark.mcloughlin@hsr.ca.gov).

For FRA: Stephanie B. Perez-Arrieta, Regional Lead, Environmental Protection Specialist, Federal Railroad Administration, (telephone: 202-493-0388; email: s.perez-arrieta@dot.gov).

SUPPLEMENTARY INFORMATION: The Authority was established by the California State Legislature in 1996 and is authorized and directed by statute to undertake the planning for the development of a proposed statewide HSR network that is fully coordinated with other public transportation services.

In 2005, the Authority and FRA completed a Final Program EIR/EIS for the Proposed California High-Speed Train System (statewide program EIR/EIS), as a first-tier environmental document. The Statewide Program EIR/EIS established the purpose and need for the HSR system, analyzed a HSR alternative, and compared it with a No Project Alternative and a modal alternative that involved expanding airports, freeways, and conventional rail to meet the state's future transportation needs. The Authority certified the Statewide Program EIR under CEQA and approved the proposed HSR system, and FRA issued a Record of Decision under NEPA for the statewide program EIS. The Authority and FRA made the following first-tier programmatic decisions: Selected the HSR alternative for intercity passenger travel in California between the major metropolitan centers of Sacramento and the San Francisco Bay Area in the north, through the Central Valley, to the cities of Los Angeles and San Diego in the south; selected very high-speed, electrified steel-wheel-on-steel-rail technology; selected certain general alignment corridors and general station locations to be studied in more detail in second-tier environmental documents, including a corridor between LAUS and ARTIC; and adopted programmatic mitigation strategies and design practices.

This EIR/EIS is one of a number of second-tier environmental documents for sections of the HSR system. It is tiered from and incorporates by reference the statewide program EIR/EIS in accordance with Council on Environmental Quality (CEQ) regulations (40 CFR 1508.28) and State of California CEQA Guidelines (Cal. Code Regs. tit. 14, 15168[b]). Tiering ensures that the Los Angeles to Anaheim Project Section EIR/EIS builds upon all previous work prepared for and incorporated in the statewide program EIR/EIS.

The Authority and FRA previously conducted scoping for the Los Angeles to Anaheim Project Section EIR/EIS in the spring of 2007. FRA published an NOI in the Federal Register on March 15, 2007 (72 FR 12250). Since publication of the NOI, the Authority has identified the proposed BNSF Colton Intermodal Facility Component (Colton Component) and BNSF Lenwood Staging Track Component (Lenwood Component) as necessary components of the Los Angeles to Anaheim Project Section of the HSR system. This Revised NOI is being issued to solicit additional public and agency input into the development of the scope of the EIR/EIS for the Los Angeles to Anaheim Project Section with respect to the Colton and Lenwood Components. Public input received during outreach activities conducted by the Authority and its representatives will be considered in the preparation of the combined EIR/EIS. The 2007 scoping and environmental development process remains valid; information learned in and since 2007 will be used, supplemented by information learned through this additional scoping, in development of the Draft EIR/EIS. Most of the information contained in this Revised NOI is the same as was contained in the 2007 NOI but is repeated here for ease of review. The Authority held three scoping meetings: In Los Angeles on April 5, 2007, in Anaheim on April 11, 2007, and in Norwalk on April 12, 2007, to engage agency and public input on the project. In addition to formal scoping meetings, the Authority has maintained ongoing outreach to public agencies and consistently engaged the public to provide input during project development. During the alternatives analysis process phase of the project, the Authority held seven community meetings between 2010 and 2015, as well as four agency meetings in 2017. The Authority held 11 open house meetings between 2016 and 2018 to engage public input on the project.

The FRA and the State of California executed a Memorandum of Understanding pursuant to 23 U.S.C. 327 dated July 23, 2019, through which the State of California, acting through the California State Transportation Agency and the Authority, has assumed FRA's responsibilities under NEPA and other Federal environmental laws for projects necessary for the design, construction, and operation of the California HSR System, including the Los Angeles to Anaheim Project Section and any ancillary facilities (including, but not limited to, electrical interconnections and network upgrades). Accordingly, the Authority is the project sponsor and lead federal agency for complying with NEPA and other federal environmental laws for the Los Angeles to Anaheim Project Section.

The Los Angeles to Anaheim Project Section corridor runs through a narrow and constrained urban environment, with other existing rail operators in the area, including trains operated by the National Railroad Passenger Corporation (Amtrak), Metrolink (governed by the Southern California Regional Rail Authority), the Union Pacific Railroad, and BNSF Railway. Projected cumulative passenger (commuter diesel and electric HSR) and freight train volumes require additional facilities be added outside the corridor to maintain existing and anticipated freight and passenger train operations during project construction and operation. Since FRA published the initial NOI, the Authority has identified the Colton and Lenwood Components, which are located outside the HSR corridor, as necessary components of the Los Angeles to Anaheim Project Section that are required to maintain freight and passenger train performance at existing levels during project construction and accommodate currently projected freight and passenger growth during project operation within the corridor.

The Authority is issuing this Revised NOI to solicit additional public and agency input into the scope of issues to be addressed for the Los Angeles to Anaheim Project Section EIR/EIS with respect to the Colton and Lenwood Components.

The preparation of this Los Angeles to Anaheim Project Section EIR/EIS will involve development of preliminary engineering designs and assessment of environmental effects associated with the construction, operation, and maintenance of the HSR system, including track and ancillary facilities and stations along the previously selected Los Angeles to Anaheim Project Section corridor between LAUS and ARTIC, as well as the Colton and Lenwood Components.

The Los Angeles to Anaheim Project Section EIR/EIS addresses CEQA and NEPA, as well as other applicable statutes, regulations, and executive orders, including (but not limited to) the Clean Air Act, the Clean Water Act, Section 106 of the National Historic Preservation Act of 1966, Section 4(f) of the Department of Transportation Act of 1966, the Endangered Species Act, and Executive Order 12898 (Federal Actions to Address Environmental Justice in Minority Populations and Low-Income Populations).

Implementation of the Los Angeles to Anaheim Project Section of the California HSR System is a federal undertaking with the potential to affect historic properties. As such, it is subject to the requirements of Section 106 of the National Historic Preservation Act of 1966. In accordance with regulations issued by the Advisory Council on Historic Preservation, 36 CFR part 800, the Authority intends to coordinate compliance with Section 106 of the National Historic Preservation Act of 1966 with the preparation of the Los Angeles to Anaheim Project Section EIR/EIS, beginning with the identification of consulting parties in a manner consistent with the standards set out in 36 CFR 800.8. Pursuant to a Programmatic Agreement, phased review of effects on historic properties is being conducted as provided by 36 CFR 800.4(b)(2).

The Los Angeles to Anaheim Project Section EIR/EIS will examine a HSR Project Alternative, as well as a No Action Alternative. This project level EIR/EIS will describe site-specific environmental impacts, will identify specific mitigation measures to address those impacts, and will incorporate design practices to avoid and minimize potential adverse environmental impacts. The Authority will assess the site characteristics, size, nature, and timing of proposed site-specific projects to determine whether impacts can be avoided or mitigated. The EIR/EIS will identify and evaluate the impacts from construction, operation, and maintenance of the HSR system. Information and documents regarding this HSR environmental review process will be available through the Authority's internet site: https://www.hsr.ca.gov/.

Purpose and Need

The need for a HSR system is directly related to the expected growth in population and increase in intercity travel demand in California over the next twenty years and beyond. With growth in travel demand, there will be an increase in travel delays arising from the growing congestion on California's highways and at airports. In addition, there will be negative effects on the economy, quality of life, and air quality in and around California's metropolitan areas from a transportation system that will become less reliable as travel demand increases. The intercity highway system, commercial airports, and conventional passenger rail serving the intercity travel market are currently operating at or near capacity and will require large public investments for maintenance and expansion to meet existing demand and future growth.

The purpose of the statewide HSR system is to provide a reliable high-speed electric-powered train system that links the major metropolitan areas of the state, and that delivers predictable and consistent travel times. A further objective is to provide an interface with commercial airports, mass transit, and the highway network and to relieve capacity constraints of the existing transportation system as increases in intercity travel demand in California occur, in a manner sensitive to and protective of California's unique natural resources.

Alternatives

The Los Angeles to Anaheim Project Section EIR/EIS will consider a No Action Alternative and a HSR Project Alternative.

No Action Alternative

The No Action alternative is defined to serve as the baseline for assessment of the HSR Project Alternative. The No Action Alternative represents the region's transportation system (highway, air, and conventional rail) as it currently exists, and as it would exist after completion of programs or projects currently planned for funding and implementation by 2040. The No Action Alternative defines the existing and future intercity transportation system for the Los Angeles to Anaheim Project Section corridor based on programmed and funded improvements to the intercity transportation system through 2040.

HSR Project Alternative

The Authority envisions the HSR system as an electric-powered, high-speed, steel-wheel-on-steel-rail technology, which would employ the latest technology, safety, signaling, and automated train control systems, approximately 800 miles long. The Los Angeles to Anaheim Project Section alignment that was selected for further project-level study by the Authority and FRA with the statewide program EIR/EIS follows the Los Angeles-San Diego-San Luis Obispo (LOSSAN) rail corridor as the feasible route option along with a connection between LAUS and the existing LOSSAN rail corridor. The Los Angeles to Anaheim Project Section of the HSR system would extend approximately 30 miles between LAUS in Los Angeles and ARTIC in Anaheim. The HSR alignment in this project section would cross the cities of Los Angeles, Vernon, Bell, Commerce, Montebello, Pico Rivera, Santa Fe Springs, Norwalk, La Mirada, Buena Park, Fullerton, and Anaheim, as well as the unincorporated area of Los Angeles County known as West Whittier.

Station location options were selected for further project-level study by the Authority and FRA with the statewide program EIR/EIS considering travel time, train speed, cost, local access times, potential connections with other modes of transportation, ridership potential and the distribution of population and major destinations along the route, and local planning constraints/conditions. Potential station locations to be evaluated in the Los Angeles to Anaheim Project Section EIR/EIS include: City of Los Angeles, LAUS; Cities of Norwalk and Santa Fe Springs, Norwalk/Santa Fe Springs Transportation Center; City of Fullerton, Fullerton Transportation Center; and City of Anaheim, ARTIC.

The LOSSAN corridor alignment selected by the Authority in 2005 for further project-level study in the Los Angeles to Anaheim Project Section EIR/EIS is a shared corridor in a built-out urban environment hosting both passenger and freight operations across a range of rail operators. The Authority is proposing to build additional track(s) for HSR and other passenger train operations in the right-of-way owned by BNSF Railway. However, in this constrained and complex transportation environment, even the construction and operation of additional track for HSR and other passenger rail operations would prevent passenger and freight mainline track between Redondo Junction and Fullerton Junction from reaching planned cumulative mainline passenger and freight volumes. Therefore, to accommodate HSR construction activities between Redondo Junction and Fullerton Junction, as well as projected cumulative 2040 passenger and freight volumes in the LOSSAN corridor, the EIR/EIS will evaluate additional facilities located outside the primary LOSSAN rail corridor. These facilities would relieve potential congestion sufficiently to allow passenger and freight volumes to reach projected cumulative 2040 levels and would include the Lenwood Staging Tracks (Lenwood Component) and Colton Intermodal Facility (Colton Component).

The Lenwood Component would be required as a new freight train staging track facility outside and east of the LOSSAN Corridor, to allow freight trains to be staged or held outside and east of the corridor, so that windows in corridor rail activity may be provided to accommodate project construction. Additionally, operation of a new staging track facility outside and east of the corridor would be needed during project operational phases to permit adequate service windows for routine maintenance in the corridor. It would consist of the following main elements: Staging tracks, staging track leads, circulation and roadway modifications, and utility modifications. The Lenwood Component site would generally be located along the existing BNSF main line tracks and south and west of State Route 58 (SR-58) within the city of Barstow and unincorporated San Bernardino County, California.

The Colton Component would accommodate future freight train volumes (an average of 10 freight trains per day) that could not be accommodated in the LOSSAN corridor due to the corridor's use by future volumes of HSR and other passenger trains. It would consist of the following main elements: Intermodal rail yard, railroad lead tracks, circulation and roadway modifications, and utility modifications. The Colton Component is in the southwest part of San Bernardino County, California, mostly within an unincorporated area of the County, while the remainder is primarily in the City of Colton with a small portion of the site's southern extent in the City of Grand Terrace. The Colton Component is generally south of Interstate 10 and the Union Pacific Railroad rail lines and north of the Santa Ana River.

Both the Lenwood Component and Colton Component are required to implement HSR service under the HSR Project Alternative by resolving potential freight and passenger rail congestion in the LOSSAN corridor between LAUS and Fullerton.

Probable Effects

The purpose of the EIR/EIS process is to explore in a public setting the effects of the proposed project on the physical, human, and natural environment. The Authority will continue the tiered evaluation of the potential environmental, social, and economic impacts of the construction and operation of the HSR system. Impact topics to be addressed include: Transportation; air quality and greenhouse gases; noise and vibration; electromagnetic fields and electromagnetic interference; public utilities and energy; biological and aquatic resources; hydrology and water resources; geology, soils, seismicity, and paleontological resources; hazardous materials and wastes; safety and security; socioeconomics and communities; station planning, land use, and development; agricultural farmland and forest land; parks, recreation and open space; aesthetics and visual quality; cultural resources; regional growth; and environmental justice. Measures to avoid, minimize, and mitigate all adverse impacts will be identified and evaluated.

Scoping and Comments

The Authority has previously carried out scoping for the Los Angeles to Anaheim Project Section EIR/EIS and identified a Preferred Alternative for the HSR Project Alternative for the HSR passenger rail corridor between Los Angeles and Anaheim. Since publication of the NOI and the identification of the Preferred Alternative, the Authority has identified the Colton and Lenwood Components as necessary components of the Los Angeles to Anaheim Project Section of the HSR system. The Authority is issuing this Revised NOI to solicit additional public and agency input into the development of the scope of the EIR/EIS for the Los Angeles to Anaheim Project Section with respect to the Colton and Lenwood Components and to advise the public that the Authority will consider public and agency input it receives in the preparation of the combined EIR/EIS. Comments and suggestions on the additional scope elements described in this Revised NOI are invited from all interested agencies, Native American Tribes, and the public to ensure the full range of issues related to the proposed action and all reasonable alternatives are addressed. In particular, the Authority is interested in determining whether there are areas of environmental concern where there might be a potential for impacts identifiable at a project level. In response to this Revised NOI, public agencies with jurisdiction are requested to advise the Authority of the applicable permit and environmental review requirements of each agency, and the scope and content of the environmental information that is germane to the agency's statutory responsibilities in connection with the proposed project. Currently, the Surface Transportation Board and the U.S. Army Corps of Engineers are participating as cooperating agencies in the preparation of the EIS. Public scoping meetings have been scheduled as an important component of the scoping process for both the state and federal environmental review. The scoping meetings described above in this Revised NOI will also be advertised locally and included in additional public notification.

The environmental review, consultation, and other actions required by applicable federal environmental laws for this project are being or have been carried out by the State of California pursuant to 23 U.S.C. 327 and a Memorandum of Understanding dated July 23, 2019, and executed by the FRA and the State of California.

Issued in Washington, DC.
Jamie P. Rennert,
Director, Office of Program Delivery.

[FR Doc. 2020-18610 Filed 8-24-20; 8:45 am]

BILLING CODE 4910-06-P